DEPARTMENT OF STATE

[Public Notice 5568]

Advisory Committee on Democracy Promotion (ACDP) Meeting Notice; Partially Closed Meeting

In accordance with section 10(a)(2) of the Federal Advisory Committee Act, 5 U.S.C. app 2 section 10(a)(2), the Department of State announces the inaugural meeting of the Advisory Committee on Democracy Promotion (ACDP) to take place on November 6, 2006, at the Department of State, Washington, DC. The meeting will be open to the public from 10 a.m.—10:45 a.m., during which time Secretary Rice will speak with the group and discuss a range of democracy promotion issues. Pursuant to section 10 (d) of the Federal Advisory Committee Act, 5 U.S.C. app 2 section 10 (d) and 5 U.S.C. 552b(c)(6), it has been determined that the rest of the Committee meeting will be closed to the public because the Committee will be discussing sensitive information about the personal situation of human rights dissidents, disclosure of which would likely jeopardize the safety and welfare of these individuals and constitute a clearly unwarranted invasion of their personal privacy. The purpose of the ACDP is to advise the Secretary of State and the Administrator of the U.S. Agency for International Development on the consideration of issues related to democracy promotion in the formulation and implementation of U.S. foreign policy and foreign assistance. The agenda for this meeting includes sensitive discussions related to the Committee's studies on current U.S. policy and issues regarding democracy advancement and promotion at both the bilateral and multilateral level, including the conditions facing individual human rights dissidents.

For more information, contact Nicole Bibbins Sedaca, Senior Director of Strategic Planning and External Affairs, Bureau of Democracy, Human Rights, and Labor, Department of State, Washington, DC 20520, telephone: (202) 647-3904.

Dated: October 12, 2006.
Jonathan Farrar,
Acting Assistant Secretary of the Bureau of Democracy, Human Rights, and Labor, Department of State.

[FR Doc. E6-17695 Filed 10-20-06; 8:45 am]

BILLING CODE 4710-18-P